DEPARTMENT OF COMMERCE

National Oceanic and Atmospheric Administration

[RTID 0648-XC532]

Caribbean Fishery Management Council; Public Meeting

AGENCY: National Marine Fisheries Service (NMFS), National Oceanic and Atmospheric Administration (NOAA), Commerce.

ACTION: Notice of public hybrid meeting (in-person/virtual).

SUMMARY: The Caribbean Fishery Management Council (CFMC) will hold the 180th public hybrid meeting to address the items contained in the tentative agenda included in the SUPPLEMENTARY INFORMATION.

DATES: The 180th CFMC public hybrid meeting will be held on December 6, 2022, from 9 a.m. to 5 p.m., and on December 7, 2022, from 9 a.m. to 4:45 p.m., AST.

ADDRESSES:

Meeting address: The meeting will be held at the Embassy Suites Hotel, Tartak Street, Carolina, Puerto Rico 00979.

You may join the 180th CFMC public hybrid meeting via Zoom, from a computer, tablet or smartphone by entering the following address: Join Zoom Meeting, https://us02web.zoom.us/j/83060685915?pwd=VmVsc1orSUtKck8xYk1XOXNDY1ErZz09.

Meeting ID: 830 6068 5915.

Passcode: 995658.

One tap mobile:

+17879451488,,83060685915#,,,,,,0#,,995658# Puerto Rico

+17879667727,,83060685915#,,,,,,0#,,995658# Puerto Rico

Dial by your location:

+1 787 945 1488 Puerto Rico

+1 787 966 7727 Puerto Rico

+1 939 945 0244 Puerto Rico

Meeting ID: 830 6068 5915.

Passcode: 995658.

In case there are problems and we cannot reconnect via Zoom, the meeting will continue using GoToMeeting.

You can join the meeting from your computer, tablet or smartphone. https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

December 6, 2022

9 a.m.-9:30 a.m.

—Call to Order

—Roll Call

—Adoption of Agenda

—Consideration of 179th Council Meeting Verbatim Transcriptions

—Executive Director's Report

9:30 a.m.-10:45 a.m.

—Updates on Island Based Fishery Management Plans (FMPs) and Current Amendments (Spiny Lobster Amendment, Buoy Gear Amendment)

—Trawl and Net Gear and Descending Devices Amendment to the Island-Based FMPs

10:45 a.m.-11 a.m.

—Break

11 a.m.-12 p.m.

—Pelagic Fish Amendment to the Island-Based FMPs

—Dolphinfish Issues

12 p.m.-1:30 p.m.

—Lunch

1:30-2:30

—Managing Trap Fisheries in the USVI: Review of Pertinent State and Federal Regulations

2:30 p.m.-3:30 p.m.

—NMFS Protected Resources Updates -Southeast Regional Office (SERO)

—Proposed Rule to List the Queen Conch as Threatened Under the Endangered Species Act

—Proposed Rule to Designate Critical Habitat for the Threatened Nassau Grouper

3:30 p.m.-3:45 p.m.

—Break

3:45 p.m.-4:15 p.m.

—Scientific and Statistical Committee (SSC) Report—Richard Appeldoorn, Chair

—SEDAR 80 Queen Triggerfish

—Spiny Lobster Update—SEDAR 57 Update

4:15 p.m.-4:45 p.m.

—Southeast Fisheries Science Center (SEFSC) Update

4:45 p.m.-5 p.m.

—Public Comment Period (5-minute presentations)

5 p.m.

—Adjourn for the Day

5:15 p.m.-5:45 p.m.

—Closed Session

December 7, 2022

9 a.m.-10 a.m.

—Caribbean Fishery Management Council, Scientific and Statistical Committee Practices and Procedures Concerning Objectivity and Conflicts of Interest—K. Zamboni, NOAA-GC

10 a.m.-10:30 a.m.

—Descending Devices Presentation and Discussion—Melissa Crouch

10:30 a.m.-10:45 a.m.

—Break

10:45 a.m.-11 a.m.

—Recreational Fisheries—Russell Dunn, NOAA National Policy Advisor on Recreational Fisheries

11 a.m.-12 p.m.

— Outreach and Education Advisory Panel Report—Alida Ortiz, Chair

—Social Network Activities Report—Cristina Olán

12 p.m.-1:30 p.m.

—Lunch Break

1:30 p.m.-2:15 p.m.

—Liaison Officers Reports (15 minutes each)

—St. Croix, U.S.V.I.—Mavel Maldonado

—St. Thomas/St. John, U.S.V.I.—Nicole Greaux

—Puerto Rico—Wilson Santiago

2:15 p.m.-3 p.m.

—NMFS/NOAA Office of Law Enforcement—Activities U.S. Caribbean

3 p.m.-3:45 p.m.

—Enforcement Reports (15-Minutes Each)

—Puerto Rico—DNER

—USVI—DPNR

—U.S. Coast Guard

3:45 p.m.-4:15 p.m.

—CFMC Advisory Bodies Membership

—Other Business

4:15 p.m.-4:45 p.m.

—Public Comment Period (5-Minute Presentations)

—Next Meetings

—Adjourn

NOTE (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

NOTE (2): Financial disclosure forms are available for inspection at this meeting, as per 50 CFR part 601.

The order of business may be adjusted as necessary to accommodate the completion of agenda items. The meeting will begin on December 6, 2022, at 9 a.m. AST, and will end on December 7, 2022 at 4:45 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: November 14, 2022.
Diane M. DeJames-Daly,
Acting Deputy Director, Office of Sustainable Fisheries, National Marine Fisheries Service.

[FR Doc. 2022-25058 Filed 11-16-22; 8:45 am]

BILLING CODE 3510-22-P